DEPARTMENT OF TRANSPORTATION

Federal Aviation Administration

14 CFR Part 71

[Docket No. FAA-2025-0277; Airspace Docket No. 24-AGL-29]

RIN 2120-AA66

Amendment of Jet Route J-146 and Establishment of United States RNAV Route Q-186 in the Vicinity of Chardon, OH

AGENCY: Federal Aviation Administration (FAA), DOT.

ACTION: Final rule.

SUMMARY: This action amends Jet Route J-146 and establishes United States Area Navigation (RNAV) Route Q-186 segments within U.S. airspace. The FAA is taking this action due to the planned decommissioning of the Very High Frequency Omnidirectional Range (VOR) portion of the Chardon, OH (CXR), VOR/Distance Measuring Equipment (VOR/DME) navigational aid (NAVAID). The Chardon VOR is being decommissioned in support of the FAA's VOR Minimum Operational Network (MON) program.

DATES: Effective date 0901 UTC, March 19, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

The FAA published a NPRM for Docket No. FAA-2025-0277 in the Federal Register (90 FR 9884; February 19, 2025), proposing to amend Jet Route J-146 and establish RNAV Route Q-186 due to the planned decommissioning of the VOR portion of the Chardon, OH, VOR/DME NAVAID. Interested parties were invited to participate in this rulemaking effort by submitting written comments on the proposal. No comments were received.

Differences From the NPRM

Subsequent to publishing the NPRM, the FAA coordinated with NAV CANADA, the air traffic service provider in Canada, for the FAA to only establish the portions of the proposed Q-186 that are within U.S. airspace and NAV CANADA to establish the portion of Q-186 that is within Canada's airspace. To accomplish that, two waypoints (WPs) are being established, named STUNK and FOODO, on the U.S./Canada border where the proposed Q-186 crosses. These two WPs will retain the route's cross-border connectivity following the removal of the J-146 route segment affected by the Chardon VOR decommissioning. This action is changed from the NPRM proposal to establish two segments of Q-186 within U.S. airspace to connect to a third segment of Q-186 that NAV CANADA is establishing within Canada's airspace. Collectively, the segments of Q-186 established within U.S. and Canadian airspace will match the route as it was proposed in the NPRM.

Incorporation by Reference

Jet Routes are published in paragraph 2004 and United States Area Navigation Routes (Q-routes) are published in paragraph 2006 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by amending Jet Route J-146 and establishing United States RNAV Route Q-186 segments within U.S. airspace due to the planned decommissioning of the VOR portion of the Chardon, OH, VOR/DME NAVAID. The Air Traffic Service route actions are described below.

J-146: Prior to this final rule, J-146 extended between the Los Angeles, CA, VOR/Tactical Air Navigation (VORTAC) and the Kennedy, NY, VOR/DME, excluding the portion within Canada. The route segment between the Gipper, MI, VORTAC and the Keating, PA, VORTAC is removed. The exclusion language is also removed. As amended, the airway is changed to now extend between the Los Angeles VORTAC and the Gipper VORTAC, and between the Keating VORTAC and the Kennedy VOR/DME.

Q-186: Q-186 is a new United States RNAV route established to extend between the ZIINE, MI, WP located approximately 0.5 nautical mile (NM) east of the Gipper, MI, VORTAC and the STUNK, OH, WP being established on the U.S./Canada border; and between the FOODO, OH, WP that is also being established on the U.S./Canada border and the SCAAM, PA, WP being established approximately 8 NM east of the Keating, PA, VORTAC. The new route segments, when connected with the segment being established by NAV CANADA in Canadian airspace, will provide an RNAV alternative to the J-146 amendment above.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending J-146 and establishing Q-186 qualifies for categorical exclusion under the National Environmental Policy Act (42 U.S.C. 4321, et seq.) and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points) and paragraph B-2.5(i), which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with the FAA's NEPA implementation policy and procedures regarding Extraordinary Circumstances, the FAA has reviewed this action for factors and circumstances in which a normally categorically excluded action may have a significant environmental impact requiring further analysis. The FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 2004 Jet Routes.

* * * * *

J-146 [Amended]

From Los Angeles, CA; Daggett, CA; Las Vegas, NV; Dove Creek, CO; Blue Mesa, CO; Goodland, KS; Lincoln, NE; Iowa City, IA; Joliet, IL; to Gipper, MI. From Keating, PA; Milton, PA; Allentown, PA; to Kennedy, NY.

* * * * *

Paragraph 2006 United States Area Navigation Routes.

* * * * *

Q-186 ZIINE, MI to SCAAM, PA [New]
ZIINE, MI | WP | (Lat. 41°46′11.17″ N, long. 086°18′26.72″ W)
IDEAS, MI | FIX | (Lat. 41°46′17.18″ N, long. 083°33′06.56″ W)
STUNK, OH | WP | (Lat. 41°41′11.97″ N, long. 082°42′02.27″ W)
and |  |
FOODO, OH | WP | (Lat. 41°40′35.84″ N, long. 082°36′14.44″ W)
SPYDY, OH | WP | (Lat. 41°32′45.18″ N, long. 081°24′44.10″ W)
TEESY, PA | WP | (Lat. 41°25′15.99″ N, long. 080°06′42.56″ W)
MIGET, PA | FIX | (Lat. 41°17′40.43″ N, long. 078°51′51.49″ W)
SCAAM, PA | WP | (Lat. 41°11′37.46″ N, long. 077°58′15.20″ W)

* * * * *

Issued in Washington, DC, on January 12, 2026.
Alex W. Nelson,
Manager, Rules and Regulations Group.

[FR Doc. 2026-00730 Filed 1-14-26; 8:45 am]

BILLING CODE 4910-13-P